DEPARTMENT OF TRANSPORTATION

Federal Aviation Administration

14 CFR Part 71

[Docket No. FAA-2003-16762; Airspace Docket No. 03-ACE-99]

Modification of Class E Airspace; Marysville, KS

AGENCY: Federal Aviation Administration (FAA), DOT.

ACTION: Direct final rule; request for comments; correction.

SUMMARY: This action corrects a direct final rule; request for comments that was published in the Federal Register on Monday, January 12, 2004 (69 FR 1663) (FR Doc. 04-485). It corrects an error in the Marysville, KS Class E airspace area legal description.

DATES: This direct final rule is effective on 0901 UTC, April 15, 2004.

FOR FURTHER INFORMATION CONTACT: Kathy Randolph, Air Traffic Division, Airspace Branch, ACE-520C, DOT Regional Headquarters Building, Federal Aviation Administration, 901 Locust, Kansas City, MO 64106; telephone: (816) 329-2525.

SUPPLEMENTARY INFORMATION:

History

Federal Register Document 04-485, published on Monday, January 12, 2004 (69 FR 1663), modified Class E airspace at Marysville, KS. The modification enlarged the controlled airspace area around Marysville Municipal Airport to provide proper protection of diverse departures, corrected discrepancies in the Marysville Municipal Airport airport reference point, redefined the extension of controlled airspace and brought the Marysville, KS Class E airspace area legal description into compliance with FAA Order 7400.2E, Procedures for Handling Airspace Matters. However, the Marysville, KS Class E airspace area legal description was published incorrectly.

Accordingly, pursuant to the authority delegated to me, the Marysville, KS Class E airspace, as published in the Federal Register on Monday, January 12, 2004, (69 FR 1663) (FR Doc. 04-485) is corrected as follows:

§ 71.1 [Corrected]

On page 1664, Column 3, paragraph headed “ACE KS E5 Marysville, KS,” first line, change “Marysville Municipal Airport, IA” to read “Marysville Municipal Airport, KS.” In the next to the last line of the same paragraph, change “6.6-mile radius” to read “6.5-mile radius.”

Issued in Kansas City, MO, on January 13, 2004.
Elizabeth S. Wallis,
Acting Manager, Air Traffic Division, Central Region.

[FR Doc. 04-2183 Filed 2-2-04; 8:45 am]

BILLING CODE 4910-13-M